FEDERAL MARITIME COMMISSION

46 CFR Part 501

[Docket No. 09-06]

RIN 3072-AC37

Recodification of the Shipping Act as Positive Law

Correction

In rule document E9-22659 beginning on page 50713 in the issue of Thursday, October 1, 2009 make the following correction:

§501.24 [Corrected]

On page 50714 in the table for §501.24(e), in the Add column, the text should read:

“section 5 of the Shipping Act of 1984 (46 U.S.C. 40301(d)-(e), 40302-40303, 40305).”

[FR Doc. Z9-22659 Filed 10-23-09; 8:45 am]

BILLING CODE 1505-01-D